DEPARTMENT OF DEFENSE

Office of Secretary

[Docket ID: DoD-2009-OS-0132]

Privacy Act of 1974; System of Records

AGENCY: Defense Intelligence Agency, DoD.

ACTION: Notice to alter a system of records.

SUMMARY: The Defense Intelligence Agency is proposing to alter a system of records in its existing inventory of records systems subject to the Privacy Act of 1974, (5 U.S.C. 552a), as amended.

DATES: The proposed action will be effective on October 9, 2009 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency system of records notices subject to the Privacy Act of 1974, (5 U.S.C. 552a), as amended, have been published in the Federal Register and are available from the address above.

The proposed system report, as required by 5 U.S.C. 552a(r) of the Privacy Act of 1974, as amended, was submitted on August 26, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: August 26, 2009.
Patricia L. Toppings,
OSD Federal Register Liaison Officer, Department of Defense.

LDIA 0450

SYSTEM NAME:

Drug-Free Workplace Files (June 5, 2006, 71 FR 32318).

CHANGES:

* * * * *

CATEGORIES OF INDIVIDUALS COVERED BY THE SYSTEM:

Delete entry and replace with “Civilian employees and applicants for positions in the Defense Intelligence Agency.”

CATEGORIES OF RECORDS IN THE SYSTEM:

Delete entry and replace with “Name, specimen identification number, Social Security Number (SSN) and records relating to the selection, notification, and testing of employees and applicants, tests results information, and related reports to include disciplinary action due to failed tests, refusal of test, incidents related to accidents, reasonable suspicion of drug use, and voluntary tests.”

AUTHORITY FOR MAINTENANCE OF THE SYSTEM:

Delete entry and replace with “E.O. 12564, Federal Drug Free Workplace; Public Law 100-71, Supplemental Appropriations Act; DoD 1010.9, DoD Civilian Employee Drug Abuse Testing Program; DIA Instruction 1015.001, Drug Free Workplace Program and E.O. 9397 (SSN), as amended.”

PURPOSE(S):

Delete entry and replace with “The system is used to maintain Drug Testing Program Coordinator records relating to the implementation of the program, administration, selection, notification and testing of DIA employees and applicants for employment for use of illegal drugs.”

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records may specifically be disclosed outside the DoD as a routine use pursuant to 5 U.S.C. 552a(b)(3) as follows:

To a court of competent jurisdiction where required by the United States Government to defend against any challenge against any adverse personnel action.”

* * * * *

STORAGE:

Delete entry and replace with “Electronic storage media.”

RETRIEVABILITY:

Delete entry and replace with “Test results are retrieved by last name and/or last five digits of the Social Security Number (SSN) and specimen identification number.”

SAFEGUARDS:

Delete entry and replace with “Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.”

RETENTION AND DISPOSAL:

Delete entry and replace with “Disposition pending (until the National Archives and Records Administration approves retention and disposal schedule, records will be treated as permanent).”

* * * * *

RECORD SOURCE CATEGORIES:

Delete entry and replace with “The individual test subject, medical review certifying officer, administrative personnel and others on a case-by-case basis.”

* * * * *

LDIA 0450

SYSTEM NAME:

Drug-Free Workplace Files.

SYSTEM LOCATION:

Defense Intelligence Agency, Washington, DC 20340-5100.

CATEGORIES OF INDIVIDUALS COVERED BY THE SYSTEM:

Civilian employees and applicants for positions in the Defense Intelligence Agency.

CATEGORIES OF INDIVIDUALS COVERED BY THE SYSTEM:

Civilian employees of the Defense Intelligence Agency as well as applicants for employment.

CATEGORIES OF RECORDS IN THE SYSTEM:

Name, specimen identification number, Social Security Number (SSN) and records relating to the selection, notification, and testing of employees and applicants, tests results information, and related reports to include disciplinary action due to failed tests, refusal of test, incidents related to accidents, reasonable suspicion of drug use, and voluntary tests.

AUTHORITY FOR MAINTENANCE OF THE SYSTEM:

E.O. 12564, Federal Drug Free Workplace; Public Law 100-71, Supplemental Appropriations Act; DoD 1010.9, DoD Civilian Employee Drug Abuse Testing Program; DIA Instruction 1015.001, Drug Free Workplace Program and E.O. 9397 (SSN), as amended.

PURPOSE(S):

The system is used to maintain Drug Testing Program Coordinator records relating to the implementation of the program, administration, selection, notification and testing of DIA employees and applicants for employment for use of illegal drugs.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

To a court of competent jurisdiction where required by the United States Government to defend against any challenge against any adverse personnel action.

POLICIES AND PRACTICES FOR STORING, RETRIEVING, ACCESSING, RETAINING, AND DISPOSING OF RECORDS IN THE SYSTEM:

STORAGE:

Electronic storage media.

RETRIEVABILITY:

Test results are retrieved by last name and/or last five digits of the Social Security Number (SSN) and specimen identification number.

SAFEGUARDS:

Records are stored in office buildings protected by guards, controlled screenings, use of visitor registers, electronic access, and/or locks. Access to records is limited to individuals who are properly screened and cleared on a need-to-know basis in the performance of their duties. Passwords and user IDs are used to control access to the system data, and procedures are in place to deter and detect browsing and unauthorized access. Physical and electronic access are limited to persons responsible for servicing and authorized to use the system.

RETENTION AND DISPOSAL:

Disposition pending (until the National Archives and Records Administration approves retention and disposal schedule, records will be treated as permanent).

SYSTEM MANAGER(S) AND ADDRESS:

Deputy Director for Human Capital, ATTN: HCH, Defense Intelligence Agency, 200 MacDill Blvd., Washington, DC 20340-5100.

NOTIFICATION PROCEDURE:

Individuals seeking to determine whether information about themselves is contained in this system of records should address written inquiries to the Freedom of Information Act Office (DAN-1A/FOIA), Defense Intelligence Agency, Washington, DC 20340-5100.

Individuals should provide their full name, current address, telephone number and Social Security Number.

RECORD ACCESS PROCEDURES:

Individuals seeking access to information about themselves contained in this system should address written inquiries to the Freedom of Information Act Office (DAN-1A/FOIA), Defense Intelligence Agency, Washington, DC 20340-5100.

Individuals should provide their full name, current address, telephone number and Social Security Number.

CONTESTING RECORD PROCEDURES:

DIA's rules for accessing records, for contesting contents and appealing initial agency determinations are published in DIA Regulation 12-12: Defense Intelligence Agency Privacy Program; 32 CFR part 319—Defense Intelligence Agency Privacy Program; or may be obtained from the system manager.

RECORD SOURCE CATEGORIES:

The individual test subject, medical review certifying officer, administrative personnel and others on a case-by-case basis.

EXEMPTIONS CLAIMED FOR THE SYSTEM:

None.

[FR Doc. E9-21745 Filed 9-8-09; 8:45 am]

BILLING CODE 5001-06-P